DEPARTMENT OF COMMERCE

National Oceanic and Atmospheric Administration

[RTID 0648-XB924]

Virtual Meeting of the Advisory Committee to the U.S. Section to the International Commission for the Conservation of Atlantic Tunas

AGENCY: National Marine Fisheries Service (NMFS), National Oceanic and Atmospheric Administration (NOAA), Commerce.

ACTION: Notice of Advisory Committee's spring meeting.

SUMMARY: The Advisory Committee to the U.S. Section of the International Commission for the Conservation of Atlantic Tunas (ICCAT) is announcing the convening of its spring meeting, which will be held virtually.

DATES: A virtual meeting that is open to the public will be held by webinar session on April 11, 2022, from 9 a.m. to 1 p.m. EDT.

ADDRESSES: Please register to attend the open sessions at: https://forms.gle/V6oEwDEnU6b4wwUeA. Instructions will be emailed to registered meeting participants before the meeting occurs. Registration will close on April 10, 2022 at 5 p.m. EDT.

FOR FURTHER INFORMATION CONTACT: Bryan Keller, Office of International Affairs, Trade, and Commerce, 202-897-9208 or at bryan.keller@noaa.gov.

SUPPLEMENTARY INFORMATION: The Advisory Committee to the U.S. Section to ICCAT will meet in open session to receive and discuss information on outcomes of ICCAT's 2021 annual meeting, ICCAT intersessional meetings in 2022, and relevant NMFS research and monitoring activities. An agenda is available from the Committee's Executive Secretary upon request (see FOR FURTHER INFORMATION CONTACT).

The Committee will convene separate closed session meetings of its Species Working Groups and an open session Committee meeting in May 2022. These details will be announced in a forthcoming Federal Register Notice.

Special Accommodations

The virtual meeting is accessible to people with disabilities. Requests for auxiliary aids should be directed to Bryan Keller at 202-897-9208 or bryan.keller@noaa.gov at least 5 days prior to the meeting date.

(Authority: 16 U.S.C. 971 et seq.; 16 U.S.C. 1801 et seq.)

Dated: March 29, 2022.
Alexa Cole,
Director, Office of International Affairs, Trade, and Commerce, National Marine Fisheries Service.

[FR Doc. 2022-06897 Filed 3-31-22; 8:45 am]

BILLING CODE 3510-22-P